SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before November 30, 2018.

ADDRESSES: Send all comments to Amber Chaudhry, Management and Program Analyst, Office of the Administrator, Small Business Administration, 409 3rd Street, 7th Floor, Washington, DC 20416.

FOR FURTHER INFORMATION CONTACT: Amber Chaudhry, Management and Program Analyst, Office of the Administrator, amber.chaudhry@sba.gov, 202-657-9722, or Curtis B. Rich, Management Analyst, 202-205-7030, curtis.rich@sba.gov.

SUPPLEMENTARY INFORMATION: The Small Business Administration is planning to launch an online entrepreneurship learning platform for women entrepreneurs looking to scale their businesses in the spring of 2019. In order to collect meaningful metrics, the Agency is proposing a new collection to track entrepreneur's progress over time.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Data Collection for the Entrepreneurship Learning Initiative.

Description of Respondents: Small business entrepreneurs.

Form Number: N/A.

Total Estimated Annual Responses: 100,000.

Total Estimated Annual Hour Burden: 100,000 entrepreneurs × 8 minutes each = 13,333 hours.

Curtis Rich,
Management Analyst.

[FR Doc. 2018-21222 Filed 9-28-18; 8:45 am]

BILLING CODE 8025-01-P